DEPARTMENT OF EDUCATION

President's Board of Advisors on Historically Black Colleges and Universities Meeting

AGENCY: President's Board of Advisors on Historically Black Colleges and Universities, U.S. Department of Education.

ACTION: Notice of meeting.

SUMMARY: This notice sets forth the schedule and agenda of the meeting of the President's Board of Advisors on Historically Black Colleges and Universities. This notice also describes the functions of the Board. Notice of this meeting is required under Section 10(a)(2) of the Federal Advisory Committee Act. Individuals who will need accommodations for a disability in order to attend the meeting (i.e. interpreting services, assistive listening devices, materials in alternative format) should notify Treopia Washington at 202-502-7900 by no later than Tuesday, September 6, 2000.

DATE AND TIME: Wednesday, September 20, 2000 from 9:00 a.m. to 5:00 p.m.

ADDRESSES: The meeting will be held at the Washington Court Hotel, 525 New Jersey Avenue, N.W., Washington, D.C. 20001.

FOR FURTHER INFORMATION CONTACT: Ms. Treopia Washington, White House Initiative on Historically Black Colleges and Universities, U.S. Department of Education, 1990 K Street, NW, Suite 8108, Washington, DC 20006-5120. Telephone: (202) 502-7900.

SUPPLEMENTARY INFORMATION: The President's Board of Advisors on Historically Black Colleges and Universities was established under Executive Order 12876 of November 1, 1993. The Board was established to advise on federal policies that impact upon Historically Black Colleges and Universities, to advise on strategies to increase participation of Historically Black Colleges and Universities in federally sponsored programs and funding opportunities, and to advise on strategies to increase private sector support for these colleges.

The meeting of the Board is open to the Public. The meeting will focus on the status and future of federal agency support for Historically Black Colleges and Universities.

Records are kept of all Board procedures and are available for public inspection at the White House Initiative on Historically Black Colleges and Universities located at 1990 K Street, NW, Suite 8099, Washington, DC, 20006, from the hours of 8:30 a.m. to 5:00 p.m.

Claudio R. Prieto,
Acting Assistant Secretary for Postsecondary Education.

[FR Doc. 00-22286 Filed 8-30-00; 8:45 am]

BILLING CODE 4000-01-M